DEPARTMENT OF THE TREASURY

United States Mint

Notification of 2008 American Eagle Gold Proof and 2008 Elizabeth Monroe First Spouse Gold Coin Pricing

SUMMARY: The United States Mint is setting prices for 2008 American Eagle Gold Coins and the 2008 Elizabeth Monroe First Spouse Gold Coin.

Pursuant to the authority that 31 U.S.C. 5111(a) and 5112(a)(7-11), & (o) grant the Secretary of the Treasury to mint and issue gold coins, and to prepare and distribute numismatic items, the United States Mint will mint and issue American Eagle Gold Proof Coins and the 2008 Elizabeth Monroe First Spouse Gold Coin.

The 2008 American Eagle Gold Proof Coins will be available in four proof denominations with the following weights: One-ounce, one-half ounce, one-quarter ounce, one-tenth ounce. The United States Mint also produces an American Eagle four-coin set that contains one coin of each denomination. The 2008 Elizabeth Monroe First Spouse Gold Coin will be available in a one-half ounce version.

In accordance with 31 U.S.C. 9701(b)(2)(B), the United States Mint is setting the price of these coins to reflect recent increases in the market price of gold.

Accordingly, the United States Mint will make available the following 2008 American Eagle Proof Gold Coins and the 2008 Elizabeth Monroe First Spouse Gold Coin according to the following price schedule:

Description | Price
Elizabeth Monroe First Spouse Gold Coin:
Proof One-Half Ounce | $619.95
Uncirculated One-Half Ounce | 599.95
2008 American Eagle Gold Coins:
One-ounce gold proof coin | 1,199.95
One-half ounce gold proof coin | 609.95
One-quarter ounce gold proof coin | 329.95
One-tenth ounce gold proof coin | 149.95
Four-coin gold proof set | 2,199.95

FOR FURTHER INFORMATION CONTACT: Gloria C. Eskridge, Associate Director for Sales and Marketing; United States Mint; 801 Ninth Street, NW., Washington, DC 20220; or call 202-354-7500.

Authority: 31 U.S.C. 5111, 5112 & 9701.

Dated: February 28, 2008.
Daniel Shaver,
Acting Deputy Director, United States Mint.

[FR Doc. E8-4108 Filed 3-4-08; 8:45 am]

BILLING CODE 4810-02-P